DEPARTMENT OF ENERGY

Office of Energy Efficiency and Renewable Energy

10 CFR Part 430

[Docket Number EE-RM/STD-98-440]

RIN 1904-AA77

Energy Conservation Program for Consumer Products: Central Air Conditioners and Heat Pumps Energy Conservation Standards; Correction

AGENCY: Office of Energy Efficiency and Renewable Energy, Department of Energy.

ACTION: Proposed rule; correction.

SUMMARY: This document corrects the preamble to a proposed rule published in the Federal Register of October 5, 2000, regarding Energy Conservation Program for Consumer Products: Central Air Conditioners and Heat Pumps Energy Conservation Standards. This correction revises the cost increase of a typical air conditioner, clarifies the conclusions on the emerging technology analysis, clarifies terminology in the discussion of niche products and corrects the docket number.

FOR FURTHER INFORMATION CONTACT: Dr. Michael E. McCabe, (202) 586-0854, e-mail: michael.e.mccabe@ee.doe.gov, or Edward Levy, Esq., (202) 586-9507, e-mail: edward.levy@hq.doe.gov.

Correction

In proposed rule document 00-25336, appearing on page 59590, in the issue of Thursday, October 5, 2000, the following corrections should be made:

(1) The Docket Line should appear as set forth above.

(2) On page 59590 in the first column of the ADDRESSES section, the first sentence is corrected to the following:

Please submit written comments, oral statements, and requests to speak at the public hearing to: Brenda Edwards-Jones, U.S. Department of Energy, Office of Energy Efficiency and Renewable Energy, Energy Conservation Program for Consumer Products: Central Air Conditioners and Heat Pumps, Docket No. EE-RM/STD/STD-98-440, 1000 Independence Avenue, SW., Washington, DC 20585-0121.

(3) On page 59591 in the second column, in the third paragraph, the second sentence is corrected to the following:

For example, while the initial cost of a typical central air conditioner would increase by $213 to $274 or about 10-12%, the higher efficiency equipment would save enough over its life to pay for the increase in the price of the equipment plus an extra $45.

(4) On page 59599, the second column, in the third paragraph, the first sentence is corrected to the following:

The emerging technology analysis based on reverse engineering information seems to confirm that, of the technologies considered, only variable capacity compressors and variable speed fan motors have the potential to be cost effective options for providing additional efficiency compared to today's established technologies.

(5) On page 59610, the third column, in the last paragraph, the first sentence is corrected to the following:

The Department encourages comments regarding whether the proposed standards concerning small-duct high-velocity, vertically-packaged wall-mounted equipment, and through-the-wall equipment provide a significant advantage to those products versus competing products, whether they are sufficient to preserve the unique features of those products, and whether improvements in the definitions are needed to prevent loopholes.

Issued in Washington, DC, on October 31, 2000.
Dan W. Reicher,
Assistant Secretary, Energy Efficiency and Renewable Energy.

[FR Doc. 00-28370 Filed 11-3-00; 8:45 am]

BILLING CODE 6450-01-P